DEPARTMENT OF ENERGY

Federal Energy Regulatory Commission

[Docket No. CP13-10-000]

Liberty Energy (Georgia) Corp.; Notice of Application

Take notice that on October 25, Liberty Energy (Georgia) Corp. (Liberty Georgia), 2845 Bristol Circle, Oakville, Ontario, Canada L6H 7H7, filed in Docket No. CP13-10-000, an application pursuant to section 7(f) of the Natural Gas Act (NGA) requesting the determination of a service area within which Liberty Georgia may, without further Commission authorization, enlarge or expand its natural gas distribution facilities. Liberty Georgia also requests: (i) A waiver of the Commission's accounting and reporting requirements and other regulatory requirements ordinarily applicable to natural gas companies under the NGA and the NGPA; (ii) pregranted abandonment of this service; and (iii) such further relief the Commission may deem appropriate, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Liberty Georgia, a newly created entity, states that it agreed on August 8, 2012, to purchase natural gas distribution assets owned by Atmos Energy Corporation (Atmos) in Georgia.¹ Liberty Georgia now seeks a section 7(f) service area determination in order to provide natural gas service to approximately 64,000 customers in Georgia. The purchased Georgia facilities will include approximately 1,313 miles of gas transmission and distribution mains in Barrow, Chattahoochee, Hall, Harris, Jackson, Muscogee, and Oconee Counties. The Georgia facilities also include the distribution systems serving Columbus, Georgia, and Gainesville, Georgia.

¹ See Atmos Energy Corp., 126 FERC ¶ 62,118 (2009).

Liberty Georgia states that it would also acquire from Atmos (i) approximately 7,078 feet of 6-inch diameter pipeline (ii) 14,040 feet of 6-inch diameter pipeline, and (iii) approximately 14,150 feet of 10-inch pipeline that extend from an interconnection with Southern Natural Gas Company in Russell County, Alabama, to the Alabama-Georgia border at the northern bank of the Chattahoochee River (Alabama facilities), where they interconnect with Atmos' Georgia facilities that serve the distribution system on the U.S. Army base at Fort Benning, Georgia.

Any questions regarding this application should be directed to William F. Demarest, Jr., Husch Blackwell LLP, 750 17th St. NW., Suite 900, Washington, DC 20006, or at (202) 378-2310 (telephone) or email: william.demarest@huschblackwell..com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: 5:00 p.m. Eastern time on Tuesday, November 27, 2012.

Dated: November 6, 2012.
Kimberly D. Bose,
Secretary.

[FR Doc. 2012-27506 Filed 11-9-12; 8:45 am]

BILLING CODE 6717-01-P